DEPARTMENT OF THE TREASURY

Internal Revenue Service

Software Developers Conference

AGENCY: Internal Revenue Service (IRS), Treasury.

ACTION: Software Developers Conference notification.

SUMMARY: The Internal Revenue Service will host a Software Developers Conference on June 1-2, 2005. The conference will be held in the Renaissance Washington DC Hotel in Washington, DC. Listed is a summary of the agenda along with the planned discussion topics.

Summarized Agenda for June 1-2, 2005.

8 a.m. Conference Begins.

11:30 a.m. Break For Lunch.

1 p.m. Conference Resumes.

4:30 p.m. Conference Adjourns.

The planned discussion topics include:

(1) Modernized e-File (MeF).

(2) Legacy e-file and Electronic Payments.

(3) Electronic Management System (EMS) Changes.

(4) Security.

(5) Encryption.

(6) MeF Web Services Technical Discussion.

(7) International Tax XML Standards.

(8) Customer Account Data Engine (CADE) Update.

Note: Last minute changes to these topics are possible and could prevent advance notice.

DATES: The Software Developers Conference will be held on Wednesday and Thursday, June 1 and 2, 2005. This conference will be held in a room that accommodates approximately 300 people, including IRS officials.

ADDRESSES: The conference will be held in the Renaissance Washington, DC Hotel, 999 9th Street, NW., Washington, DC 20001.

FOR FURTHER INFORMATION CONTACT: Registration for the Software Developers Conference may be accessed at http://www.eventhotline.com/irs. Participants should register on-line for the conference by May 31, 2005. On-site conference registration will also be available. If you need additional information you may contact Wayne Mercado at 202-283-4838 or send and e-mail to irs.sw.conf.2005@irs.gov.

SUPPLEMENTARY INFORMATION: The IRS Software Developers Conference provides information and dialogue on issues of interest to IRS e-file software developers.

Dated: March 17, 2005.
Beatrice D. Howell,
Acting Director, Strategic Services.

2

[FR Doc. E5-1314 Filed 3-24-05; 8:45 am]

BILLING CODE 4830-01-P